DEPARTMENT OF COMMERCE

International Trade Administration

Initiation of Antidumping and Countervailing Duty Administrative Reviews and Request for Revocation in Part

AGENCY: Import Administration, International Trade Administration, Department of Commerce.

ACTION: Notice of Initiation of Antidumping and Countervailing Duty Administrative Reviews and Request for Revocation in Part.

SUMMARY: The Department of Commerce (the Department) has received requests to conduct administrative reviews of various antidumping and countervailing duty orders and findings with December anniversary dates. In accordance with our regulations, we are initiating those administrative reviews. The Department also received a request to revoke one antidumping duty order in part.

EFFECTIVE DATE: January 22, 2003.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2002), for administrative reviews of various antidumping and countervailing duty orders and findings with December anniversary dates. The Department also received a timely request to revoke in part the antidumping duty order on Porcelain-on-Steel Cooking Ware from the People's Republic of China.

Initiation of Reviews

In accordance with section 19 CFR 351.221(c)(1)(i), we are initiating administrative reviews of the following antidumping and countervailing duty orders and findings. We intend to issue the final results of these reviews not later than December 31, 2003.

| Period to be Reviewed
Antidumping Duty Proceedings
Argentina: Honey A-357-812 | 5/11/01-11/30/02
Asociacion de Cooperativas Argentinas
Centauro S.A.
Cia. Europeo Americana SA
Comexter Robinson S.A.
Compa Inversora Platense S.A.
Compania Apicola Argentina SA
ConAgra Argentina S.A.
Coope-Riel Ltda.
Cooperativa DeAgua Potable y Otros
Establecimiento Don Angel S.r.L.
Food Way, S.A.
Francisco Facundo Rodriguez
Jay Bees
Jose Luis Garcia
HoneyMax S.A.
Mielar S.A.
Navicon S.A.
Nexco S.A.
Parodi Agropecuaria S.A.
Radix S.r.L.
Seylinco S.A.
Times S.A.
Transhoney S.A.
Brazil: Silicomanganese, A-351-824 | 12/1/01-11/30/02
SIBRA-Electrosiderurgica Brazileira S.A.
Compania Paulista De Ferro-Ligas-Ligas
India: Certain Hot-Rolled Carbon Steel Flat Products, A-533-820 | 5/3/01-11/30/02
Essar Steel Ltd.
Tata Iron ad Steel Company, Ltd.
India: Stainless Steel Wire Rod, A-533-808 | 12/1/01-11/30/02
Isibars Steel
Mukand, Limited
Panchmahal Steel Limited
The Viraj Group, Ltd.
The People's Republic of China: Certain Cased Pencils,¹ A-570-827 | 12/1/01-11/30/02
Anhui Import/Export Group Corporation
Beijing Light Industrial Products Import/Export Corporation
China First Pencil Company, Ltd.
China National Light Industrial Products Import & Export Corp. (all branches)
Dalian Light Industrial Products Import/Export Corporation
Guangdong Stationary & Sporting Goods Imports & Export Co., Ltd.
Liaoning Light Industrial Products Import/Export Corporation
Laizhou City Guangming Pencil-Making Co., Ltd.
Orient International Holding Shanghai Foreign Trade Co., Ltd.
Qingdao Light Industrial Products Import/Export Corporation
Shandong Light Industrial Products Import/Export Corporation
Shandong Rongxin Import & Export Company Ltd. (formerly called Kaiyuan Group Group Corporation)
Sichuan Light Industrial Products Import/Export Corporation
Tianjin Customs Wood Processing Co., Ltd.
The People's Republic of China: Honey,² A-570-863 | 5/11/01-11/30/02
Anhui Native Produce Import & Export Corp.
Henan Native Produce and Animal By-Products Import & Export Co.
High Hope International Group Jiangsu Foodstuffs Import & Export Corp.
Inner Mongolia Autonomous Region Native Produce and Animal By-Products Import & Export Corp.
Kunshan Foreign Trade Company
Shanghai Eswell Enterprise Co., Ltd.
Shanghai Xiuwei International Trading Co., Ltd.
Sichuan-Dujiangyan Dubao Bee Industrial Co., Ltd.
Wuhan Bee Healthy Company, Ltd.
Zhejiang Native Produce and Animal By-Products Import & Export Corp.
The People's Republic of China: Porcelain-on-Steel Cooking Ware,³ A-570-506 | 12/1/01-11/30/02
Clover Enamelware Enterprise, Ltd.
Lucky Enamelware Factory, Ltd.
Countervailing Duty Proceedings
Argentina: Honey,⁴ C-357-813 | 1/1/01-12/31/01
India: Certain Hot-Rolled Carbon Steel Flat Products, C-533-821 | 1/1/01-12/31/01
Essar Steel Ltd.
South Africa: Certain Hot-Rolled Carbon Steel Flat Products, C-791-810 | 1/1/01-12/31/01
Iscor Ltd.
Saldanha Steel Ltd.
Suspension Agreements
None.
¹ If one of the above named companies does not qualify for a separate rate, all other exporters of certain cased pencils from the People's Republic of China who have not qualified for a separate rate are deemed to be covered by this review as part of the single PRC entity of which the named exporters are a part.
² If one of the above named companies does not qualify for a separate rate, all other exporters of honey from the People's Republic of China who have not qualified for a separate rate are deemed to be covered by this review as part of the single PRC entity of which the named exporters are a part.
³ If one of the above named companies does not qualify for a separate rate, all other exporters of porcelain-on steel cooking ware from the People's Republic of China who have not qualified for a separate rate are deemed to be covered by this review as part of the single PRC entity of which the named exporters are a part.
⁴ In the countervailing duty investigation of Honey from Argentina, the Department solicited information from the Government of Argentina (GOA) on an aggregate or industry-wide basis in accordance with section 777A(e)(2)(B) of the Act, rather than from individual producers and exporters, due to the large number of producers and exporters of Honey in Argentina. See Final Affirmative Countervailing Duty Determination: Honey from Argentina, 66 FR 50613-01 (October 4, 2001). In accordance with section 351.213(b) of the regulations, the GOA and the petitioners have requested an administrative review of this countervailing duty order. No individual exporters requested the review pursuant to section 351.213(b) of the regulations. Accordingly, the Department will be conducting the review of this order on an aggregate basis.
The GOA has requested that the period of review for this review be extended to include not only calendar year 2001 but also calendar year 2002. We are initiating this review for calendar year 2001, however, we are actively considering this request, and we will solicit comments from interested parties on this issue. After careful consideration of these comments, we will timely inform parties of our decision.

During any administrative review covering all or part of a period falling between the first and second or third and fourth anniversary of the publication of an antidumping duty order under § 351.211 or a determination under § 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: January 15, 2003.
Holly A. Kuga,
Senior Office Director, Group II, Office 4, Import Administration.

[FR Doc. 03-1369 Filed 1-21-03; 8:45 am]

BILLING CODE 3510-DS-P